DEPARTMENT OF COMMERCE

International Trade Administration

[A-570-941]

Certain Kitchen Appliance Shelving and Racks From the People's Republic of China: Partial Rescission of Antidumping Duty Administrative Review

AGENCY: Import Administration, International Trade Administration, Department of Commerce.

DATES: Effective Date: March 2, 2012.

FOR FURTHER INFORMATION CONTACT: Katie Marksberry, AD/CVD Operations, Office 9, Import Administration, International Trade Administration, U.S. Department of Commerce, 14th Street and Constitution Avenue NW., Washington DC 20230; (202) 482-7906.

Background

On October 31, 2011, the Department of Commerce (“Department”) published a notice of initiation of an administrative review of the antidumping duty order on certain kitchen appliance shelving and racks from the People's Republic of China (“PRC”) covering the period September 1, 2010, through August 31, 2011. See Initiation of Antidumping and Countervailing Duty Administrative Reviews and Request for Revocation in Part, 76 FR 67133 (October 31, 2011).

On January 10, 2012, SSW Holding Company, Inc. and Nashville Wire Products, Inc, (“Petitioners”) withdrew their request for an administrative review of Hangzhou Dunli Import & Export Co.; Ltd. (“Hangzhou Dunli”). Additionally, on January 30, 2012, Petitioners withdrew their request for a review of Guangdong Wireking Co. Ltd. (“Wireking”). Petitioners were the only party to request a review of these companies.

Partial Rescission

Pursuant to 19 CFR 351.213(d)(1), the Secretary will rescind an administrative review, in whole or in part, if a party who requested the review withdraws the request within 90 days of the date of publication of notice of initiation of the requested review. Petitioners' request was submitted within the 90 day period and, thus, is timely. Because Petitioners' withdrawal of requests for review is timely and because no other party requested a review of the aforementioned companies, in accordance with 19 CFR 351.213(d)(1), we are partially rescinding this review with respect to Hangzhou Dunli and Wireking.¹

¹ We note that there are additional companies for which all review requests were withdrawn within the 90 day period. See Letter to the Department from Petitioners, Re: Withdrawal of Requests for Second Administrative Review of the Antidumping Duty Order—Kitchen Appliance Shelving and Racks from the People's Republic of China, dated January 10, 2012; and Letter to the Department from Petitioners, Re: Withdrawal of Requests for Second Administrative Review of the Antidumping Duty Order—Kitchen Appliance Shelving and Racks from the People's Republic of China, dated January 30, 2012. These additional companies for which all review requests were withdrawn do not have a separate rate from a prior segment of this proceeding. We intend to address the disposition of these companies in the preliminary results of this review.

Assessment Rates

The Department will instruct U.S. Customs and Border Protection (“CBP”) to assess antidumping duties on all appropriate entries. Both Hangzhou Dunli and Wireking have a separate rate from a prior segment of this proceeding; therefore, antidumping duties shall be assessed at rates equal to the cash deposit of estimated antidumping duties required at the time of entry, or withdrawal from warehouse, for consumption, in accordance with 19 CFR 351.212(c)(2). The Department intends to issue appropriate assessment instructions directly to CBP 15 days after publication of this notice.

Notification to Importers

This notice serves as a final reminder to importers for whom this review is being rescinded, as of the publication date of this notice, of their responsibility under 19 CFR 351.402(0(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: February 17, 2012.
Christian Marsh,
Deputy Assistant Secretary for Antidumping and Countervailing Duty Operations.

[FR Doc. 2012-4872 Filed 3-1-12; 8:45 am]

BILLING CODE 3510-DS-M